DEPARTMENT OF TRANSPORTATION

Federal Aviation Administration

14 CFR Part 39

[Docket No. FAA-2009-0570; Directorate Identifier 2009-CE-033-AD; Amendment 39-15949; AD 2009-13-10]

RIN 2120-AA64

Airworthiness Directives; British Aerospace Regional Aircraft Model HP.137 Jetstream Mk.1, Jetstream Series 200 and 3101, and Jetstream Model 3201 Airplanes

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

BAE systems have been notified by the MLG radius rod manufacturer, APPH Ltd, that a batch of incorrectly manufactured Buffer Springs (part number 184818) had been supplied to their parts distributor and MRO facilities in North America.

There is a risk that any radius rod fitted with one of these incorrectly manufactured Buffer Springs could jam in an unlocked position.

This condition, if not corrected, could result in MLG collapse.

This AD requires actions that are intended to address the unsafe condition described in the MCAI.

DATES: This AD becomes effective June 26, 2009.

On June 26, 2009, the Director of the Federal Register approved the incorporation by reference of certain publications listed in this AD.

We must receive comments on this AD by July 24, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Taylor Martin, Aerospace Engineer, FAA, Small Airplane Directorate, 901 Locust, Room 301, Kansas City, Missouri 64106; telephone: (816) 329-4138; fax: (816) 329-4090.

SUPPLEMENTARY INFORMATION:

Discussion

The European Aviation Safety Agency (EASA), which is the Technical Agent for the Member States of the European Community, has issued EASA Emergency AD No. 2009-0121-E, dated June 9, 2009 (referred to after this as “the MCAI”), to correct an unsafe condition for the specified products. The MCAI states:

BAE systems have been notified by the MLG radius rod manufacturer, APPH Ltd, that a batch of incorrectly manufactured Buffer Springs (part number 184818) had been supplied to their parts distributor and MRO facilities in North America.

There is a risk that any radius rod fitted with one of these incorrectly manufactured Buffer Springs could jam in an unlocked position.

This condition, if not corrected, could result in MLG collapse.

For the reasons described above, this Emergency AD requires the replacement of each affected radius rod with a serviceable unit and allows the installation of the affected radius rods only after the accomplishment of APPH Service Bulletins 1847-32-14 and 1862-32-14.

You may obtain further information by examining the MCAI in the AD docket.

Relevant Service Information

British Aerospace Regional Aircraft has issued British Aerospace Jetstream Series 3100 and 3200 Alert Service Bulletin 32-A-JA090640, dated June 2009 (includes an attached Accomplishment Report), and APPH BBA Aviation has issued APPH Ltd. Service Bulletins 1847-32-14 and 1862-32-14, both dated June 2009. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because a batch of incorrectly manufactured main landing gear (MLG) buffer springs has been supplied to a U.S. distributor. There is a risk that any radius rod fitted with one of these incorrectly manufactured buffer springs could jam in an unlocked position and result in MLG collapse. EASA issued an Emergency AD with an effective date of 2 days after publication. Since there are known parts with this unsafe condition, their AD requires compliance with the corrective actions before further flight. Our U.S. AD 2007-21-17 mandates replacement of the MLG radius rod with a new modified radius rod. Some of the modified radius rods are fitted with the incorrectly manufactured buffer springs. As a result, some operators who have complied with AD 2007-21-17 may have installed on airplanes the above-mentioned parts with the unsafe condition. Also, these airplanes operate in 14 CFR parts 121 and 135 revenue service, which increases the risk factor for failure because of the increased operation. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0570; Directorate Identifier 2009-CE-033-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-13-10 British Aerospace Regional Aircraft: Amendment 39-15949; Docket No. FAA-2009-0570; Directorate Identifier 2009-CE-033-AD.

Effective Date

(a) This airworthiness directive (AD) becomes effective June 26, 2009.

Affected ADs

(b) This AD affects some of the part numbers used as terminating action for AD 2007-21-17, Amendment 39-15235 (72 FR 60228, October 24, 2007).

Applicability

(c) This AD applies to Model HP.137 Jetstream Mk.1, Jetstream Series 200 and 3101, and Jetstream Model 3201 airplanes, all serial numbers, certificated in any category.

Subject

(d) Air Transport Association of America (ATA) Code 32: Landing Gear.

Reason

(e) The mandatory continuing airworthiness information (MCAI) states:

BAE systems have been notified by the MLG radius rod manufacturer, APPH Ltd, that a batch of incorrectly manufactured Buffer Springs (part number 184818) had been supplied to their parts distributor and MRO facilities in North America.

There is a risk that any radius rod fitted with one of these incorrectly manufactured Buffer Springs could jam in an unlocked position.

This condition, if not corrected, could result in MLG collapse.

For the reasons described above, this Emergency AD requires the replacement of each affected radius rod with a serviceable unit and allows the installation of the affected radius rods only after the accomplishment of APPH Service Bulletins 1847-32-14 and 1862-32-14.

Actions and Compliance

(f) Unless already done, do the following actions.

(1) Before further flight, inspect the main landing gear (MLG) radius rod to identify if you have one of the affected part numbers (P/Ns) (P/N 1847/D through 1847/N and 1862/D through 1862/N) installed on the airplane following British Aerospace Jetstream Series 3100 and 3200 Alert Service Bulletin 32-A-JA090640, dated June 2009. If you do not have one of the affected P/Ns installed, then only paragraphs (f)(3) and (f)(4) of this AD apply to you.

(2) If as a result of the inspection required in paragraph (f)(1) of this AD you find one of the affected P/N MLG radius rods installed on the airplane, before further flight, replace the MLG radius rod with one of the following:

(i) A serviceable MLG radius rod that is not in one of the following P/N ranges: 1847/D through 1847/N or 1862/D through 1862/N; or

(ii) An affected P/N MLG radius rod that has already been inspected following APPH Ltd. Service Bulletin 1847-32-14 or 1862-32-14, as applicable, both dated June 2009, and found to be serviceable.

(3) As of June 26, 2009 (the effective date of this AD), do not install an affected part number MLG radius rod unless it has been inspected following APPH Ltd. Service Bulletin 1847-32-14 or 1862-32-14, as applicable, both dated June 2009, and found to be serviceable.

Note 1: The inspection requirements of paragraph (f)(3) above apply to any replacement required per AD 2007-21-17.

(4) Within 30 days after the inspection required in paragraph (f)(1) of this AD, send an Accomplishment (Inspection) Report to BAE Systems following the instructions in paragraph 2.C of British Aerospace Jetstream Series 3100 and 3200 Alert Service Bulletin 32-A-JA090640, dated June 2009. Include the details of any radius rods removed.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Special Flight Permit

(h) Under 14 CFR 39.23, we are limiting special flight permits for the purpose of compliance with this AD under the following conditions:

(1) Operate the airplane only with the MLG in the down and verified locked position throughout the entire flight; and

(2) Coordinate additional flight restrictions with British Aerospace Regional Aircraft using the contact information provided in paragraph (j)(2) of this AD.

Related Information

(i) Refer to EASA Emergency AD No. 2009-0121-E, dated June 9, 2009; British Aerospace Jetstream Series 3100 and 3200 Alert Service Bulletin 32-A-JA090640, dated June 2009 (includes an attached Accomplishment Report); and APPH Ltd. Service Bulletins 1847-32-14 and 1862-32-14, both dated June 2009, for related information.

Material Incorporated by Reference

(j) You must use British Aerospace Jetstream Series 3100 and 3200 Alert Service Bulletin 32-A-JA090640, dated June 2009 (includes an attached Accomplishment Report) and APPH Ltd. Service Bulletins 1847-32-14 and 1862-32-14, as applicable, both dated June 2009, to do the actions required by this AD, unless the AD specifies otherwise.

(1) The Director of the Federal Register approved the incorporation by reference of this service information under 5 U.S.C. 552(a) and 1 CFR part 51.

(2) For service information identified in this AD, contact BAE Systems (Operations) Ltd., Customer Information Department, Prestwick International Airport, Ayrshire, KA9 2RW, Scotland, United Kingdom; telephone: +44 1292 675207; fax: +44 1292 675704; e-mail: RApublications@baesystems.com; Internet: http://www.baesystems.com/Capabilities/Air/.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on June 18, 2009.
James E. Jackson,
Acting Manager, Small Airplane Directorate, Aircraft Certification Service

[FR Doc. E9-14816 Filed 6-23-09; 8:45 am]

BILLING CODE 4910-13-P